DEPARTMENT OF ENERGY

Federal Energy Regulatory Commission

[Docket No. CP06-78-000]

Southwest Gas Transmission Company; Notice of Application

March 10, 2006.

Take notice that Southwest Gas Transmission Company, P.O. Box 98510, Las Vegas, Nevada 89193-8510, filed in Docket No. CP06-78-000 on March 1, 2006, a request pursuant to section 7(c) of the Natural Gas Act (NGA) and subpart F of part 157 of the Commission's Regulations under the NGA for a blanket certificate of public convenience and necessity authorizing Southwest Gas to engage in any of the activities specified in subpart F of part 157 of the Commission's Regulations, as may be amended from time to time, all as more fully set forth in the request which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to Edward C. McMurtrie, Director/Federal Regulatory Affairs, Southwest Gas Corporation, P.O. Box 98510, Las Vegas, Nevada 89193-8510, at (702) 876-7109 (telephone) or (702) 873-3820 (fax).

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

The Commission strongly encourages electronic filings of comments, protests, and interventions via the Internet in lieu of paper. See 18 CFR 385.2001(a)(1)(iii) and the instructions on the Commission's Web site (http://www.ferc.gov) under the “e-Filing” link.

Comment Date: March 31, 2006.

Magalie R. Salas,
Secretary.

[FR Doc. E6-3876 Filed 3-16-06; 8:45 am]

BILLING CODE 6717-01-P